DEPARTMENT OF THE TREASURY

Office of Foreign Assets Control

31 CFR Part 587

Publication of Russian Harmful Foreign Activities Sanctions Regulations Web General License 104A

AGENCY: Office of Foreign Assets Control, Treasury.

ACTION: Publication of a web general license.

SUMMARY: The Department of the Treasury's Office of Foreign Assets Control (OFAC) is publishing a general license (GL) issued pursuant to the Russian Harmful Foreign Activities Sanctions Regulations: GL 104A, which was previously made available on OFAC's website.

DATES: GL 104A was issued on August 27, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On August 27, 2025, OFAC issued GL 104A to authorize certain transactions otherwise prohibited by the Russian Harmful Foreign Activities Sanctions Regulations, 31 CFR part 587. This GL was made available on OFAC's website (https://ofac.treasury.gov) when it was issued. GL 104A replaced and superseded GL 104. GL 104A has an expiration date of September 1, 2026. The text of this GL is provided below.

OFFICE OF FOREIGN ASSETS CONTROL

Russian Harmful Foreign Activities Sanctions Regulations

31 CFR Part 587

GENERAL LICENSE NO. 104A

Authorizing Transactions Related to Imports of Certain Diamonds Prohibited by Executive Order 14068

(a) Except as provided in paragraph (b) of this general license, all transactions prohibited by the determination of February 8, 2024 made pursuant to section 1(a)(i)(B) of Executive Order (E.O.) 14068 (“Prohibitions Related to Imports of Certain Categories of Diamonds”) that are ordinarily incident and necessary to the importation and entry into the United States, including importation for admission into a foreign trade zone located in the United States, of the following categories of diamonds are authorized through 12:01 a.m. eastern daylight time, September 1, 2026, provided that the diamonds were physically located outside of the Russian Federation before, and were not exported or re-exported from the Russian Federation since:

(1) March 1, 2024 for non-industrial diamonds with a weight of 1.0 carat or greater; or

(2) September 1, 2024 for non-industrial diamonds with a weight of 0.5 carats or greater.

Note 1 to paragraph (a). The importation and entry into the United States, including importation for admission into a foreign trade zone located in the United States, of non-industrial diamonds of Russian Federation origin remains prohibited pursuant to section 1(a)(i)(A) of E.O. 14068.

(b) This general license does not authorize any transactions otherwise prohibited by the Russian Harmful Foreign Activities Sanctions Regulations, 31 CFR part 587 (RuHSR), including transactions involving any person blocked pursuant to the RuHSR, unless separately authorized.

(c) Effective August 27, 2025, General License No. 104, dated August 23, 2024, is replaced and superseded in its entirety by this General License No. 104A.

Note 2 to General License No. 104A. Nothing in this general license relieves any person from compliance with any other Federal laws or requirements of other Federal agencies.

Bradley T. Smith,

Director, Office of Foreign Assets Control,

Dated: August 27, 2025.

Bradley T. Smith,
Director, Office of Foreign Assets Control.

[FR Doc. 2025-19124 Filed 9-30-25; 8:45 am]

BILLING CODE 4810-AL-P